DEPARTMENT OF THE INTERIOR

Fish and Wildlife Service

[FWS-R9-IA-2009-N258]

[96300-1671-0000-P5]

Issuance of Permits

AGENCY: Fish and Wildlife Service, Interior.

ACTION: Notice of issuance of permits.

SUMMARY: We, the U.S. Fish and Wildlife Service (Service), have issued the following permits to conduct certain activities with endangered species and/or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.Endangered Species

Endangered Species
Permit number | Applicant | Receipt of application Federal Register notice | Permit issuance date
179638 | Samuel K. Wasser/University of Washington | 74 FR 41454; August 17, 2009 | October 9, 2009
206026 | Earl E. Wismer | 74 FR 37241; July 28, 2009 | November 5, 2009
207047 | Hidden Harbor Marine Environmental Project | 74 FR 28523; June 16, 2009 | November 6, 2009
213672 | James L. Scull, Jr. | 74 FR 32192; July 7, 2009 | August 28, 2009
216076 | William R. Morgan, III | 74 FR 32192; July 7, 2009 | August 28, 2009
216464 | Hidden Harbor Marine Environmental Project | 74 FR 37240; July 28, 2009 | November 6, 2009
216468 | Donald E. Coon | 74 FR 32192; July 7, 2009 | August 28, 2009
218607 | Philadelphia Zoo | 74 FR 37240; July 28, 2009 | November 4, 2009
219116 | Jon L. Blocker | 74 FR 37240; July 28, 2009 | August 28, 2009
220562 | Richard R. Arend | 74 FR 49017; September 25, 2009 | October 26, 2009
220718 | James R. Boyd | 74 FR 40230; August 11, 2009 | October 16, 2009
221391 | Florida Fish & Wildlife Conservation Commission | 74 FR 46222; September 8, 2009 | November 5, 2009
221404 | Ralph D. Miller | 74 FR 221404; September 8, 2009 | October 15, 2009
222050 | Mark Peterson | 74 FR 46222; September 8, 2009 | October 15, 2009
222864 | Joe B. Tinney | 74 FR 49017; September 25, 2009 | November 2, 2009
222865 | Leigh M. Barry | 74 FR 46222; September 8, 2009 | October 15, 2009
223348 | Wilson Walter Crook | 74 FR 55062; October 26, 2009 | November 27, 2009
223386 | Frank M. Cole | 74 FR 53297; October 16, 2009 | November 20, 2009
225797 | New York University, College of Dentistry | 74 FR 46222; September 8, 2009 | October 14, 2009
226642 | Vance S. Johnson | 74 FR 47821; September 17, 2009 | October 27, 2009
227930 | Sandra A. Summers | 74 FR 55062; October 26, 2009 | November 27, 2009
228076 | Bradford T. Black | 74 FR 55062; October 26, 2009 | November 25, 2009
215979 | Patrick D. McCown | 74 FR 37240; July 28, 2009 | November 25, 2009
227937 | Dennis F. Gaines | 74 FR 53297; October 16, 2009 | December 3, 2009

Marine Mammals
Permit number | Applicant | Receipt of application Federal Register notice | Permit issuance date
049136 | Charles Grossman, Xavier University | 74 FR 46222; September 8, 2009 | November 6, 2009
192878 | University of Illinois Veterinary Diagnostic Laboratory | 74 FR 25767; May 29, 2009 | November 12, 2009
221257 | Emma K. Napper, The Natural World, BBC Natural History Unit | 74 FR 46222; September 8, 2009 | November 6, 2009

Dated: December 4, 2009
Brenda Tapia,
Program Analyst, Branch of Permits, Division of Management Authority

[FR Doc. E9-29884 Filed 12-15-09; 8:45 am]

BILLING CODE 4310-55-S